DEPARTMENT OF AGRICULTURE

Food and Nutrition Service

RIN 0584-AC88

Food Stamp Program: Maximum Allotments for the 48 States and the District of Columbia, and Income Eligibility Standards for the 48 States and the District of Columbia, Alaska, Hawaii, Guam and the Virgin Islands

AGENCY: Food and Nutrition Service, USDA.

ACTION: General notice.

SUMMARY: The purpose of this notice is to update for Fiscal Year 2000 the maximum allotment levels, which are the basis for determining the amount of food stamps which participating households receive and the gross and net income limits for food stamp eligibility. These adjustments, required by law, take into account changes in the cost of living and statutory adjustments since the amounts were last calculated.

DATES: This notice is effective May 19, 2000.

FOR FURTHER INFORMATION CONTACT: Margaret Werts Batko, Assistant Chief, Certification Policy Branch, Program Development Division, Food Stamp Program, Food and Nutrition Service, USDA, 3101 Park Center Drive, Alexandria, Virginia 22302, (703) 305-2516. The e-mail address is Margaret.Batko@FNS.USDA.GOV

SUPPLEMENTARY INFORMATION:

Implementation

As required by Section 3(o) of the Food Stamp Act of 1977 (the Act), 7 U.S.C. 2012(o), State agencies should have implemented the adjustments to the maximum food stamp allotments reflected in this notice on October 1, 1999, based on advance notice of the new amounts. In accordance with regulations published at 47 FR 46485-46487 (October 19, 1982), annual statutory adjustments to the maximum allotment levels and income eligibility standards are issued by general notices published in the Federal Register and not through rulemaking proceedings.

Classification

Executive Order 12866

This notice has been determined to be not significant for purposes of Executive Order 12866 and therefore has not been reviewed by the Office of Management and Budget (OMB).

Executive Order 12372

The Food Stamp Program is listed in the Catalog of Federal Domestic Assistance under No. 10.551. For the reasons set forth in the final rule related notice to 7 CFR part 3015, subpart V (48 FR 29116, June 24, 1983), this program is excluded from the scope of Executive Order 12372 which requires intergovernmental consultation with State and local officials.

Regulatory Flexibility Act

The Under Secretary for Food, Nutrition and Consumer Services has certified that this action will not have a significant economic impact and will not have an impact on a substantial number of small entities. The action will increase the amount of money spent on food through food stamps. However, this money will be distributed among the nation's food vendors, so the effect on any one vendor will not be significant.

Paperwork Reduction Act

This action does not contain reporting or record keeping requirements subject to approval by OMB pursuant to the provisions of the Paperwork Reduction Act of 1995, 44 U.S.C. 3507.

Unfunded Mandate Reform Act of 1995 (UMRA)

Title II of UMRA establishes requirements for Federal agencies to assess the effects of their regulatory actions on State, local, and tribal governments and the private sector. Under Section 202 of the UMRA, FNS generally must prepare a written statement, including a cost-benefit analysis, for proposed and final rules with “Federal mandates” that may result in expenditures to State, local, or tribal governments, in the aggregate, or to the private sector, of $100 million or more in any one year. When such a statement is needed for a rule, Section 205 of the UMRA generally requires FNS to identify and consider a reasonable number of regulatory alternatives and adopt the least costly, more cost-effective or least burdensome alternative that achieves the objectives of the rule.

This notice contains no Federal mandates (under the regulatory provisions of Title II of the UMRA) for State, local, and tribal governments or the private sector of more than $100 million or more in any one year. Thus this rule is not subject to the requirements of sections 202 and 205 of the UMRA.

Background

Income Eligibility Standards

The eligibility of households for the Food Stamp Program, except those in which, in accordance with Section 5(a) of the Act, 7 U.S.C. 2014(a), all members are receiving “benefits under a State program funded under part A of title IV of the Social Security Act, supplemental security income [SSI] benefits under title XVI of the Social Security Act, or aid to the aged, blind, or disabled under title I, X, XIV, or XV of the Social Security Act * * *”, is determined by comparing their incomes to the appropriate income eligibility standards (limits). Pursuant to Section 5(c)(2) of the Act, households containing an elderly or disabled member are required to have qualifying net incomes, while households which do not contain an elderly or disabled member must have qualifying net incomes and qualifying gross incomes. Households in which all members are receiving Social Security Act title IV benefits or SSI are “categorically eligible;” under 7 CFR 273.2(j)(2) their incomes do not have to be below the income limits.

As provided in Section 5(c)(1) of the Act, the net and gross income limits applicable to food stamp eligibility are derived from the Federal income poverty guidelines established under Section 673(2) of the Community Services Block Grant Act, 42 U.S.C. 9902(2). The net income limit is 100 percent of the poverty line. The gross income limit is 130 percent of the poverty line. The guidelines are updated annually. Based on that update, the Food Stamp Program's income eligibility standards are updated each October 1. Instructions for implementation of the required adjustments for October 1, 1999, were issued by the Deputy Administrator of the Food and Nutrition Service, Food Stamp Program, in a July 26, 1999, memorandum to all State Food Stamp Program Directors. The revised income eligibility standards for the 48 States (including the District of Columbia, Guam and the Virgin Islands), Alaska and Hawaii are as follows:

Food Stamp Program
[October 1, 1999-September 30, 2000]
Household size | 48 States ¹ | Alaska | Hawaii
Net Monthly Income Eligibility Standards (100 Percent of Poverty Level)
1 | $687 | $860 | $791
2 | 922 | 1,154 | 1,061
3 | 1,157 | 1,447 | 1,331
4 | 1,392 | 1,740 | 1,601
5 | 1,627 | 2,034 | 1,871
6 | 1,862 | 2,327 | 2,141
7 | 2,097 | 2,620 | 2,411
8 | 2,332 | 2,914 | 2,681
Each Add. Member | +235 | +294 | +270
Gross Monthly Income Eligibility Standards (130 Percent of Poverty Level)
1 | $893 | $1,118 | $1,029
2 | 1,199 | 1,500 | 1,380
3 | 1,504 | 1,881 | 1,731
4 | 1,810 | 2,262 | 2,082
5 | 2,115 | 2,644 | 2,433
6 | 2,421 | 3,025 | 2,784
7 | 2,726 | 3,406 | 3,135
8 | 3,032 | 3,788 | 3,486
Each Add. Member | +306 | +382 | +351
Gross Monthly Income Eligibility Standards for Households Where Elderly Disabled Are a Separate Household (165 Percent of Poverty Level)
1 | $1,133 | $1,419 | $1,305
2 | 1,521 | 1,903 | 1,751
3 | 1,909 | 2,387 | 2,196
4 | 2,297 | 2,871 | 2,642
5 | 2,684 | 3,355 | 3,087
6 | 3,072 | 3,839 | 3,533
7 | 3,460 | 4,323 | 3,978
8 | 3,848 | 4,807 | 4,424
Each Add. Member | +388 | +484 | +446
¹ Includes District of Columbia, Guam, and the Virgin Islands

Thrifty Food Plan (TFP) and Allotments

As provided for in Section 3(o) of the Act, the TFP is a plan for the consumption of foods of different types (food groups) that a household might use to provide nutritious meals and snacks for household members. The plan reflects a diet required to feed a family of four persons consisting of a man and woman aged 20 to 50, a child 6 to 8 and a child 9 to 11. The cost of the TFP is adjusted monthly to reflect changes in the costs of the food groups.

The TFP is also the basis for establishing food stamp allotments. “Allotment” is defined in Section 3(a) of the Act as “the total value of coupons a household is authorized to receive during each month.” Food stamp allotments are adjusted periodically to reflect the changes in food cost levels indicated in the changing amounts of the TFP. Prior to the amendment of Section 3(o) of the Act by Section 804 of Public Law 104-193, the Personal Responsibility and Work Opportunity Reconciliation Act of 1996, allotment amounts were established on each October 1 at 103% of the cost of the TFP in the previous June. Amended Section 3(o)(4) of the Act now provides that the TFP will be adjusted each October 1 to reflect the exact cost, or 100%, of the TFP for the previous June, rounding the results to the nearest lower dollar increment for each household size, except that on October 1,1996, the TFP was not to have been reduced below the amounts in effect on September 30, 1996.

To obtain the maximum food stamp allotment for each household size for the period October 1, 1999, to September 30, 2000, June 1999 TFP costs for the above described four-person household were divided by four, multiplied by the appropriate household size and economy of scale factor, in accordance with Section 3(o)(1) of the Act, and the final result was rounded down to the nearest dollar. The maximum benefit, or allotment, is paid to households with no net income. For a household with income, the household's allotment is determined by reducing the maximum allotment for the household's size by 30 percent of the individual household's net income in accordance with Section 8(a) of the Act, 7 U.S.C. 2017(a). The following table shows the current allotments for the 48 States and the District of Columbia.

Maximum Food Stamp Allotments
[October 1999—September 2000]
Household size | 48 States and DC
1 | 127
2 | 234
3 | 335
4 | 426
5 | 506
6 | 607
7 | 671
8 | 767
Add on | 96

Dated: February 16, 2000.
Samuel Chambers, Jr.,
Administrator, Food and Nutrition Service.

[FR Doc. 00-12655 Filed 5-18-00; 8:45 am]

BILLING CODE 3410-30-P